DEPARTMENT OF COMMERCE

International Trade Administration

[C-475-819]

Certain Pasta from Italy: Final Results of the 13th (2008) Countervailing Duty Administrative Review

AGENCY: Import Administration, International Trade Administration, Department of Commerce.

SUMMARY: The Department of Commerce (“the Department”) has completed its administrative review of the countervailing duty (“CVD”) order on certain pasta from Italy for the period January 1, 2008, through December 31, 2008. On April 13, 2010, we published the Preliminary Results of this review. See Certain Pasta From Italy: Preliminary Results of the 13th (2008) Countervailing Duty Administrative Review, 75 FR 18806 (April 13, 2010) (“Preliminary Results”). We did not receive any comments on the Preliminary Results and have made no revisions. We find that Pastificio Lucio Garofalo S.p.A. (“Garofalo”) received countervailable subsidies and that F.lli De Cecco di Filippo Fara San Martino S.p.A. (“De Cecco Pastificio”)/Molino e Pastificio De Cecco S.p.A. (“De Cecco Pescara”), members of the De Cecco group of companies, received de minimis countervailable subsidies. The final net subsidy rates for Garofalo and De Cecco Pastificio/De Cecco Pescara are listed below in the section entitled “Final Results of Review.”

DATES: Effective Date: June 29, 2010.

FOR FURTHER INFORMATION CONTACT: Anna Flaaten or Brandon Farlander, AD/CVD Operations, Office 1, Import Administration, U.S. Department of Commerce, 14th Street and Constitution Avenue, NW, Washington, DC 20230; telephone (202) 482-5156 and (202) 482-0182, respectively.

SUPPLEMENTARY INFORMATION:

Background

In the Preliminary Results, we invited interested parties to submit briefs. No briefs were received.

Period of Review

The period of review (“POR”) for which we are measuring subsidies is January 1, 2008, through December 31, 2008.

Scope of the Order

Imports covered by the order are shipments of certain non-egg dry pasta in packages of five pounds four ounces or less, whether or not enriched or fortified or containing milk or other optional ingredients such as chopped vegetables, vegetable purees, milk, gluten, diastasis, vitamins, coloring and flavorings, and up to two percent egg white. The pasta covered by the scope of the order is typically sold in the retail market, in fiberboard or cardboard cartons, or polyethylene or polypropylene bags of varying dimensions.

Excluded from the scope of the order are refrigerated, frozen, or canned pastas, as well as all forms of egg pasta, with the exception of non-egg dry pasta containing up to two percent egg white. Also excluded are imports of organic pasta from Italy that are accompanied by the appropriate certificate issued by the Instituto Mediterraneo Di Certificazione, Bioagricoop S.r.l., QC&I International Services, Ecocert Italia, Consorzio per il Controllo dei Prodotti Biologici, Associazione Italiana per l'Agricoltura Biologica, or Codex S.r.l. In addition, based on publicly available information, the Department has determined that, as of August 4, 2004, imports of organic pasta from Italy that are accompanied by the appropriate certificate issued by Bioagricert S.r.l. are also excluded from the order. See Memorandum from Eric B. Greynolds to Melissa G. Skinner, dated August 4, 2004, which is on file in the Department's Central Records Unit (“CRU”) in Room 1117 of the main Department building. In addition, based on publicly available information, the Department has determined that, as of March 13, 2003, imports of organic pasta from Italy that are accompanied by the appropriate certificate issued by Instituto per la Certificazione Etica e Ambientale are also excluded from the order. See Memorandum from Audrey Twyman to Susan Kuhbach, dated February 28, 2006, entitled “Recognition of Instituto per la Certificazione Etica e Ambientale (ICEA) as a Public Authority for Certifying Organic Pasta from Italy” which is on file in the Department's CRU.

The merchandise subject to review is currently classifiable under items 1901.90.90.95 and 1902.19.20 of the Harmonized Tariff Schedule of the United States (“HTSUS”). Although the HTSUS subheadings are provided for convenience and customs purposes, the written description of the merchandise subject to the order is dispositive.

Scope Rulings

The Department has issued the following scope rulings to date:

(1) On August 25, 1997, the Department issued a scope ruling finding that multicolored pasta, imported in kitchen display bottles of decorative glass that are sealed with cork or paraffin and bound with raffia, is excluded from the scope of the antidumping (“AD”) and CVD orders. See Memorandum from Edward Easton to Richard Moreland, dated August 25, 1997, which is on file in the CRU.

(2) On July 30, 1998, the Department issued a scope ruling finding that multipacks consisting of six one-pound packages of pasta that are shrink-wrapped into a single package are within the scope of the AD and CVD orders. See Letter from Susan H. Kuhbach to Barbara P. Sidari, dated July 30, 1998, which is on file in the CRU.

(3) On October 26, 1998, the Department self-initiated a scope inquiry to determine whether a package weighing over five pounds as a result of allowable industry tolerances is within the scope of the AD and CVD orders. On May 24, 1999, we issued a final scope ruling finding that, effective October 26, 1998, pasta in packages weighing or labeled up to (and including) five pounds four ounces is within the scope of the AD and CVD orders. See Memorandum from John Brinkmann to Richard Moreland, dated May 24, 1999, which is on file in the CRU.

(4) On April 27, 2000, the Department self-initiated an anti-circumvention inquiry to determine whether Pastificio Fratelli Pagani S.p.A.'s importation of pasta in bulk and subsequent repackaging in the United States into packages of five pounds or less constitutes circumvention with respect to the AD and CVD orders on pasta from Italy pursuant to section 781(a) of the Tariff Act of 1930, as amended (“the Act”), and 19 CFR 351.225(b). See Certain Pasta From Italy: Notice of Initiation of Anti-Circumvention Inquiry on the Antidumping and Countervailing Duty Orders, 65 FR 26179 (May 5, 2000). On September 19, 2003, we published an affirmative finding in the anti-circumvention inquiry. See Anti-Circumvention Inquiry of the Antidumping and Countervailing Duty Orders on Certain Pasta from Italy: Affirmative Final Determinations of Circumvention of Antidumping and Countervailing Duty Orders, 68 FR 54888 (September 19, 2003).

Final Results of Review

In accordance with 19 CFR 351.221(b)(5), we calculated individual subsidy rates for the mandatory respondents, De Cecco Pastificio/De Cecco Pescara and Garofalo.

For the non-selected respondents, we have followed the Department's practice to base the margin on an average of the margins calculated for those companies selected for individual review, excluding zero or de minimis rates or rates based entirely on adverse facts available (“AFA”). See Notice of Final Determination of Sales at Less Than Fair Value: Light-Walled Rectangular Pipe and Tube from Mexico, 73 FR 35649, 35651 (June 24, 2008); see also Certain Frozen Warmwater Shrimp From India: Final Results and Partial Rescission of Antidumping Duty Administrative Review, 73 FR 40492, 40495-98 (July 15, 2008), and Lightweight Thermal Paper From the People's Republic of China: Final Affirmative Countervailing Duty Determination, 73 FR 57323, 57325-26 (October 2, 2008). Therefore, we have assigned to the non-selected respondents in this review the rate calculated for Garofalo, which is the only rate in this review that is neither de minimis nor based entirely on AFA.

For the period January 1, 2008, through December 31, 2008, we find the net subsidy rates for the producers/exporters under review to be that specified in the chart below:

Producer/Exporter | Net Subsidy Rate
F.lli De Cecco di Filippo Fara San Martino S.p.A./ Molino e Pastificio De Cecco S.p.A. | 0.44% (de minimis)
Pastificio Lucio Garofalo S.p.A. | 0.62%
De Matteis Agroalimentare S.p.A. | 0.62%
Agritalia S.r.L. | 0.62%
F. Divella S.p.A. | 0.62%
All-Others Rate | 3.85%

Listed below are the programs we examined in the review and our findings with respect to each of these programs. For a complete analysis of the programs found to be countervailable, not countervailable and terminated, see Preliminary Results.

I. Programs Determined to be Countervailable

A. Industrial Development Grants Under Law 64/86

B. Industrial Development Grants Under Law 488/92

C. Interest Contributions Under Law 488/92

II. Programs Determined to be Countervailable for Which There is No Measurable Benefit

A. Social Security Reductions and Exemptions - Sgravi

1) Law 407/90

III. Programs Determined to Not be Used

A. Industrial Development Loans Under Law 64/86

B. Grant Received Pursuant to the Community Initiative Concerning the Preparation of Enterprises for the Single Market (“PRISMA”)

C. European Regional Development Fund (“ERDF”) Programma Operativo Plurifondo (“P.O.P.”) Grant

D. European Regional Development Fund (“ERDF”) Programma Operativo Multiregionale (“P.O.M.”) Grant

E. Certain Social Security Reductions and Exemptions Sgravi (including Law 223/91, Article 8, Paragraph 4 and Article 25, Paragraph 9; and Law 196/97)

F. Law 236/93 Training Grants

G. Law 1329/65 Interest Contributions (“Sabatini Law”) (Formerly Lump-Sum Interest Payment Under the Sabatini Law for Companies in Southern Italy)

H. Development Grants Under Law 30 of 1984

I. Law 908/55 Fondo di Rotazione Iniziative Economiche (Revolving Fund for Economic Initiatives) Loans

J. Law 317/91 Benefits for Innovative Investments

K. Brescia Chamber of Commerce Training Grants

L. Ministerial Decree 87/02

M. Law 10/91 Grants to Fund Energy Conservation

N. Export Restitution Payments

O. Export Credits Under Law 227/77

P. Capital Grants Under Law 675/77

Q. Retraining Grants Under Law 675/77

R. Interest Contributions on Bank Loans Under Law 675/77

S. Preferential Financing for Export Promotion Under Law 394/81

T. Urban Redevelopment Under Law 181

U. Industrial Development Grants Under Law 183/76

V. Interest Subsidies Under Law 598/94

W. Duty-Free Import Rights

X. European Social Fund Grants

Y. Law 113/86 Training Grants

Z. European Agricultural Guidance and Guarantee Fund

AA. Law 341/95 Interest Contributions on Debt Consolidation Loans (Formerly Debt Consolidation Law 341/95)

BB. Interest Grants Financed by IRI Bonds

CC. Article 44 of Law 448/01

DD. Law 289/02

1) Article 62 - Investments in Disadvantaged Areas

2) Article 63 - Increase in Employment

EE. Law 662/96 - Patti Territoriali

FF. Law 662/96 - Contratto di Programma

IV. Terminated Programs

A. Social Security Reductions and Exemptions - Sgravi

1) Law 196/97

V. Previously Terminated Programs

A. Regional Tax Exemptions Under IRAP

B. VAT Reductions Under Laws 64/86 and 675/55

C. Corporate Income Tax (“IRPEG”)

D. Remission of Taxes on Export Credit Insurance Under Article 33 of Law 227/77

E. Export Marketing Grants Under Law 304/90

F. Tremonti Law 383/01

G. Social Security Reductions and Exemptions - Sgravi

1) Article 44 of Law 448/01

2) Law 337/90

3) Law 863/84

Assessment Rates

Because the CVD rate for De Cecco Pastificio/De Cecco Pescara is less than 0.5 percent and, thus, de minimis, the Department will instruct U.S. Customs and Border Protection (“CBP”) to liquidate shipments of certain pasta by De Cecco Pastificio/De Cecco Pescara from January 1, 2008, through December 31, 2008, without regard to CVDs. For all entries by Garofalo, De Matteis Agroalimentare S.p.A., Agritalia S.r.L., and F. Divella S.p.A., we will instruct CBP to assess CVDs on all shipments at the net subsidy rates listed above.

For all other companies that were not reviewed (except Barilla G. e R. F.lli S.p.A., and Gruppo Agricoltura Sana S.r.l., which are excluded from the order, and Pasta Lensi S.r.l., which was revoked from the order), the Department has directed CBP to assess CVDs on all entries between January 1, 2008, and December 31, 2008, at the rates in effect at the time of entry.

The Department intends to issue appropriate assessment instructions directly to CBP 15 days after publication of these final results of review.

Cash Deposit Instructions

The Department also intends to instruct CBP to collect cash deposits of estimated CVDs in the amounts shown above with the exception of De Cecco Pastificio/De Cecco Pescara. For De Cecco Pastificio/De Cecco Pescara, no cash deposits of estimated duties are required because their rate is de minimis. For all non-reviewed firms (except Barilla G. e R. F.lli S.p.A. and Gruppo Agricoltura Sana S.r.l., which are excluded from the order, and Pasta Lensi S.r.l. which was revoked from the order), we will instruct CBP to collect cash deposits of estimated CVDs at the most recent company-specific or all-others rate applicable to the company. These rates shall apply to all non-reviewed companies until a review of a company assigned these rates is requested. These cash deposit requirements, when imposed, shall remain in effect until further notice.

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: June 21, 2010.
Paul Piquado,
Acting Deputy Assistant Secretary for Import Administration.

[FR Doc. 2010-15762 Filed 6-28-10; 8:45 am]

BILLING CODE 3510-DS-S